DEPARTMENT OF AGRICULTURE

Office of the Chief Financial Officer

Notice of Request for Revision to and Extension of a Currently Approved Information Collection

AGENCY: National Finance Center (NFC), Department of Agriculture.

ACTION: Revision to and extension of approval of an information collection; comment request.

SUMMARY: In accordance with the Paperwork Reduction Act of 1995, this notice announces NFC's intention to request a revision to and extension of an approved information collection for the Direct Premium Remittance System (DPRS), Form DPRS-2809, Request to Change FEHB Enrollment.

DATES: Comments on this notice must be received by October 26, 2021 to be assured of consideration.

ADDRESSES: NFC invites interested persons to submit comments on this notice. Comments may be submitted by the following method:

Federal eRulemaking Portal: This website provides the ability to type short comments directly into the comment field on this web page or attach a file for lengthier comments. Go to http://www.regulations.gov. Follow the on-line instructions at that site for submitting comments. Instructions: All items submitted by mail or electronic mail must include the Agency name, USDA, NFC, DPRS Billing Unit, P.O. Box 61760, New Orleans, Louisiana 70161. Comments received in response to this docket will be made available for public inspection and posted without change, including any personal information, to http://www.regulations.gov.

FOR FURTHER INFORMATION CONTACT: A copy of this information collection, with applicable supporting documentation, may be obtained by contacting Michael Schleifstein, Chief, Government Insurance Services Branch, USDA, NFC, DPRS Billing Unit, P.O. Box 61760, New Orleans, Louisiana 70161-1760; telephone: 504-426-7161; telefax 303-235-7410; or email to nfc.dprs@nfc.usda.gov.

SUPPLEMENTARY INFORMATION: In accordance with the Paperwork Reduction Act of 1995 (44 United States Code chapter 35), this notice announces the intention of NFC to request a revision to and extension of an approved information collection for the Request to Change Federal Employees Health Benefit (FEHB) Enrollment.

Title: DPRS-2809, Request to Change FEHB Enrollment.

Office of Management and Budget (OMB) Number: 0505-0024.

Expiration Date of Approval: October 31, 2021.

Type of Request: Revision and extension of a currently approved information collection.

Abstract: The DPRS-2809, Request to Change FEHB Enrollment, is for Spouse Equity Act/Temporary Continuation of Coverage (TCC) enrollees and direct pay annuitants who are eligible to elect, cancel, or change health benefits enrollment during the open season each year.

Estimated of Burden: Public reporting burden for this collection of information is estimated to average 45 minutes per response.

Respondents: Individuals who are under the Spouse Equity Act/TCC and direct pay annuitants who are eligible to make the FEHB plan changes during open season.

Estimated Number of Respondents: 45,000.

Estimated Number of Responses per Respondent: 1.

Estimated Total Annual Burden on Respondents: 33,750.

Comments are invited on: (1) Whether the proposed collection of information is necessary for the proper performance of the functions of the Agency, including whether the information will have practical utility; (2) the accuracy of the Agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Interested persons are invited to submit written comments on the proposed information collection. Comments may be sent to DPRS via email to nfc.dprs@nfc.usda.gov. All comments received will be available for public inspection during regular business hours at the same address.

All responses to this notice will be summarized and included in the request for the OMB's approval. All comments will become a matter of public record.

Anita R. Adkins,
Acting Director, National Finance Center.

[FR Doc. 2021-18470 Filed 8-26-21; 8:45 am]

BILLING CODE 3410-KS-P